FEDERAL COMMUNICATIONS COMMISSION

47 CFR Part 73

[DA 09-43; MB Docket No. 08-242; RM-11506]

Radio Broadcasting Services; Ten Sleep, WY

AGENCY: Federal Communications Commission.

ACTION: Proposed rule.

SUMMARY: This document sets forth a proposal to amend the FM Table of Allotments, Section 73.202(b) of the Commission's rules, 47 CFR 73.202(b). The Commission requests comment on a petition filed by Legend Communications of Wyoming, LLC. Petitioner proposes the allotment of Channel 267A at Ten Sleep, Wyoming, as a first local service. The purpose of the requested allotment is to maintain Ten Sleep's first potential local service, because petitioner has requested a change of community of license for unbuilt Station KYTS(FM), Channel 271C2, from Ten Sleep to Manderson, Wyoming. Channel 267A can be allotted at Ten Sleep in compliance with the Commission's minimum distance separation requirements with a site restriction of 0.3 km (0.2 miles) northeast of Ten Sleep. The proposed coordinates for Channel 267A at Ten Sleep are 44-02-08 North Latitude and 107-26-50 West Longitude. See SUPPLEMENTARY INFORMATION infra.

DATES: Comments must be filed on or before March 9, 2009, and reply comments on or before March 24, 2009.

ADDRESSES: Federal Communications Commission, Washington, DC 20554. In addition to filing comments with the FCC, interested parties should serve the designated petitioner's counsel as follows: Lee W. Shubert, Esq., Sciarrino & Shubert PLLC, 5425 Tree Line Drive, Centreville, Virginia 20120-1676.

FOR FURTHER INFORMATION CONTACT: Deborah A. Dupont, Media Bureau (202) 418-7072.

SUPPLEMENTARY INFORMATION: This is a synopsis of the Commission's Notice of Proposed Rule Making, MB Docket No. 08-242, adopted January 14, 2009, and released January 16, 2009. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Wyoming, is amended by adding Ten Sleep, Channel 267A.

Federal Communications Commission.
John A. Karousos,
Assistant Chief, Audio Division, Media Bureau.

[FR Doc. E9-2399 Filed 2-4-09; 8:45 am]

BILLING CODE 6712-01-P